DEPARTMENT OF LABOR

Bureau of Labor Statistics

Proposed Collection, Comment Request

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c) (2)(A)]. This program helps to ensure that requested data can be provided in the desired format, reporting burden (time and financial resources) is minimized, collection instruments are clearly understood, and the impact of collection requirements on respondents can be properly assessed. The Bureau of Labor Statistics (BLS) is soliciting comments concerning the proposed revision of the “National Compensation Survey.” A copy of the proposed information collection request (ICR) can be obtained by contacting the individual listed below in the Addresses section of this notice.

DATES: Written comments must be submitted to the office listed in the Addresses section of this notice on or before January 5, 2015.

ADDRESSES: Send comments to Nora Kincaid, BLS Clearance Officer, Division of Management Systems, Bureau of Labor Statistics, Room 4080, 2 Massachusetts Avenue, NE., Washington, DC 20212. Written comments also may be transmitted by fax to 202-691-5111 (this is not a toll free number.)

FOR FURTHER INFORMATION CONTACT: Nora Kincaid, BLS Clearance Officer, at 202-691-7628 (this is not a toll free number.) (See ADDRESSES section.)

SUPPLEMENTARY INFORMATION:

I. Background

The National Compensation Survey (NCS) is an ongoing survey of earnings and benefits among private firms, State, and local government. Data from the NCS program include estimates of wages covering broad groups of related occupations, and data that directly link benefit plan costs with detailed plan provisions. The NCS is used to produce the Employment Cost Trends, including the Employment Cost Index (ECI) and Employer Costs for Employee Compensation (ECEC), employee benefits data (on coverage, cost and provisions), data used by the President's Pay Agent and this data is used by compensation administrators and researchers in the private sector. Data from the NCS are used to help determine monetary policy (as a Principal Federal Economic Indicator.)

The integrated program's single sample produces both time-series indexes and cost levels for industry and occupational groups, thereby increasing the analytical potential of the data.

The NCS employs probability methods for selection of occupations. This ensures that sampled occupations represent all occupations in the workforce, while minimizing the reporting burden on respondents. The survey collects data from a sample of employers. These data will consist of information about the duties, responsibilities, and compensation (earnings and benefits) for a sample of occupations for each sampled employer.

Data will be updated on a quarterly basis. The updates will allow for production of data on change in earnings and total compensation.

II. Current Action

Office of Management and Budget clearance is being sought for the National Compensation Survey.

The NCS collects earnings and work level data on occupations for the nation. The NCS also collects information on the cost, provisions, and incidence of major employee benefits through its benefit cost and benefit provision programs and publications.

BLS has for a number of years been using a revised approach to the Locality Pay Survey (LPS); this uses data from two current BLS programs—the Occupational Employment Statistics (OES) survey and the ECI program. This approach uses OES data to provide wage data by occupation and by area, while ECI data are used to specify grade level effects. This approach is also being used to extend the estimation of pay gaps to areas that were not included in the prior Locality Pay Survey sample, and these data have been delivered to the Pay Agent (in 2014, data for 92 areas were delivered.)

The NCS in September 2012 started reverting to a national survey design in order to preserve the reliability of the ECI and the EBS. The NCS private industry sample is on a three-year rotational cycle, with one frozen sample year for the NCS private industry sample when a new NCS State and local government sample starts collection in 2015.

The NCS continues to provide employee benefit provision and participation data. These data include estimates of how many workers receive the various employer-sponsored benefits. The data also include information about the common provisions of benefit plans.

NCS collection will use eight forms (normally having unique private industry and government initiation and update collection forms and versions.) For NCS update collection, the forms or screens give respondents their previously reported information, the dates they expected change to occur to these data, and space for reporting these changes.

The NCS for electronic collection uses a Web-based system (Web-Lite) that allows NCS respondents, using Secure Sockets Layer (SSL) encryption and the establishment's schedule number, to upload data files to a secure BLS server and forwards those files to the assigned BLS field economist. A new more interactive Web page system was developed allowing respondents to further refine and break out the detailed data they send NCS using this Web application.

III. Desired Focus of Comments

The Bureau of Labor Statistics is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology, e.g., permitting electronic submissions of responses.

Type of Review: Revision of a currently approved collection.

Agency: Bureau of Labor Statistics.

Title: National Compensation Survey.

OMB Number: 1220-0164.

Affected Public: Businesses or other for-profit; not-for-profit institutions; and State, local, and tribal government.

Total Respondents: 16,428 (three-year average).

Total Burden Cost (capital/startup): $0.

Total Burden Cost (operating/maintenance): $0.

All figures in the table below are based on a three-year average. The total respondents in the table are greater than the figure shown above because many respondents are asked to provide information relating to more than one form.

Form | Total respondents per form | Frequency | Total annual responses | Average minutes | Total hours
Establishment collection form (NCS Form 15-1G) | 532 | 1 | 532 | 54 | 479
Establishment collection form (NCS Form 15-1P) | 2247 | 1 | 2247 | 54 | 2022
Earnings form (NCS Form 15-2G) | 532 | 1 | 532 | 20 | 177
Earnings form (NCS Form 15-2P) | 2247 | 1 | 2247 | 20 | 749
Wage Shuttle form computer generated earnings update form # | 12226 | 4 | 48904 | 20 | 16301
Benefits Collection Form (NCS 15-3G) | 532 | 1 | 532 | 180 | 1596
Benefits Collection Form (NCS 15-3P) | 2247 | 1 | 2247 | 180 | 6741
Summary of Benefits (Benefit update form SO-1003) is computer generated # | 12226 | 4 | 48904 | 20 | 16301
Collection not tied to a specific form (testing, Quality Assurance/Quality Measurement, etc.) | 1423 |  | 3205 |  | 613
Totals | 34212 |  | 109350 |  | 44979
** Collection forms can have multiple uses. The table above shows the average collection times for the predominant uses of the forms. Record checks (for quality assurance and measurement) are done on a sub-sample of respondents verifying responses for pre-selected sections of the collection forms.
# Includes IDCF form time (Web based screen for SSL encryption Web site secure.)

Comments submitted in response to this notice will be summarized and/or included in the request for Office of Management and Budget approval of the information collection request; they also will become a matter of public record.

Signed at Washington, DC, this 30th day of October 2014.
Kimberley D. Hill,
Chief, Division of Management Systems, Bureau of Labor Statistics.

[FR Doc. 2014-26278 Filed 11-4-14; 8:45 am]

BILLING CODE 4510-24-P